DEPARTMENT OF LABOR

Employment and Training Administration

[TA-W-55,448]

Sheaffer Manufacturing Company, LLC, Fort Madison, IA; Revised Determination on Reopening Alternative Trade Adjustment Assistance

On June 21, 2005, the Department on its own motion reopened the investigation regarding Alternative Trade Adjustment Assistance (ATAA) applicable to workers of the subject firm. The negative determination was signed on September 23, 2004, and was published in the Federal Register on October 26, 2004 (69 FR 62461).

The workers of Sheaffer Manufacturing Company, LLC, Fort Madison, Iowa were certified eligible to apply for Trade Adjustment Assistance (TAA) on September 23, 2004.

The initial ATAA investigation determined that the skills of the subject worker group are easily transferable to other positions in the local area.

New information provided by the company contains new facts of a substantive nature bearing on the determination.

Upon further contact with a company official, it was confirmed that the information provided by the company was incorrectly reported during the initial investigation. During the initial investigation it was reported that the skills of the workers at the subject firm are easily transferable. It has been determined by new information provided by the company that the skills of the workers at the subject firm are not easily transferable in the local commuting area.

Upon further investigation it has been determined that a significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

“All workers of Sheaffer Manufacturing Company, LLC, Fort Madison, Iowa, who became totally or partially separated from employment on or after August 9, 2003 through September 23, 2006, are eligible to apply for adjustment assistance under Section 223 of the Trade Act of 1974, and are also eligible to apply for alternative trade adjustment assistance under Section 246 of the Trade Act of 1974.”

Signed in Washington, DC, this 22nd day of June, 2005.
Elliott S. Kushner,
Certifying Officer, Division of Trade Adjustment Assistance.

[FR Doc. E5-3736 Filed 7-13-05; 8:45 am]

BILLING CODE 4510-30-P